DEPARTMENT OF ENERGY

Federal Energy Regulatory Commission

[Project No. 9100-040]

James M. Knott; Notice Soliciting Scoping Comments

February 2, 2018.

Take notice that the following hydroelectric license application has been filed with the Commission and is available for public inspection.

a. Type of Application: Subsequent Minor License.

b. Project No.: P-9100-040.

c. Date filed: April 27, 2017.

d. Applicant: James M. Knott.

e. Name of Project: Riverdale Mills Project.

f. Location: On the Blackstone River in Worcester County, Massachusetts. There are no federal or tribal lands within the project boundary.

g. Filed Pursuant to: Federal Power Act, 16 U.S.C. 791(a)-825(r).

h. Applicant Contact: Mr. Kevin Young, Young Energy Services, LLC, 2112 Talmage Drive, Leland, NC 28451; (617) 645-3658.

i. FERC Contact: Dr. Nicholas Palso, (202) 502-8854 or nicholas.palso@ferc.gov.

j. Deadline for filing scoping comments: 30 days from the date of this notice.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-9100-040.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Riverdale Mills Project consists of: (1) A 142-foot-long, 14-foot-high concrete and steel dam that includes a spillway that contains five stanchion bays with stop-logs, and one hydraulically-operated spillway gate; (2) a 22-acre impoundment with a normal maximum elevation of 262.35 feet above mean sea level; (3) two unused, gated intake structures connected to two 10-foot-wide sluiceways; (4) a gated intake structure fitted with a trashrack with 1.75-inch bar spacing, and connected to a 14- to 18-foot-wide sluiceway; (5) a 200-foot-long, 75-foot-wide powerhouse room, located within the Riverdale Mills Corporation manufacturing facility, and containing a 150-kilowatt turbine-generator unit; (6) a tailrace that includes a 214-foot-long arched granite structure with a minimum width of 18 feet, and an 1,800-foot-long, 37.5- to 75-foot-wide excavated channel; (7) a 75-foot-long, 480-volt generator lead that connects the turbine-generator unit to the Riverdale Mills Corporation manufacturing facility; and (8) appurtenant facilities.

The project is manually operated as a run-of-river facility with an annual average energy production of approximately 162,000 kilowatt-hours. The project bypasses approximately 1,200 feet of the Blackstone River, and there is currently no required minimum instream flow for the bypassed reach.

Mr. Knott proposes to continue operating the project in a run-of-river mode, and release a minimum flow of 10 cubic feet per second into the bypassed reach, including leakage from the stanchion stop-logs at the spillway.

m. A copy of the application is available for review at the Commission in the Public Reference Room or may be viewed on the Commission's website at http://www.ferc.gov using the eLibrary link. Enter the docket number excluding the last three digits in the docket number field to access the document. For assistance, contact FERC Online Support. A copy is available for inspection and reproduction at Riverdale Power's office at 130 Riverdale Street, Northbridge, MA 01534.

n. You may also register online at http://www.ferc.gov/docs-filing/esubscription.asp to be notified via email of new filings and issuances related to this or other pending projects. For assistance, contact FERC Online Support.

o. Scoping Process.

Commission staff intends to prepare a single Environmental Assessment (EA) for the Riverdale Mills Project in accordance with the National Environmental Policy Act. The EA will consider both site-specific and cumulative environmental impacts and reasonable alternatives to the proposed action.

Commission staff does not propose to conduct any on-site scoping meetings at this time. Instead, we are soliciting comments, recommendations, and information on Scoping Document 1 (SD1), issued on February 2, 2018.

Copies of SD1 outlining the subject areas to be addressed in the EA were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: February 2, 2018.
Kimberly D. Bose,
Secretary.

[FR Doc. 2018-02532 Filed 2-7-18; 8:45 am]

BILLING CODE 6717-01-P